DEPARTMENT OF COMMERCE

International Trade Administration

[Docket No.: 160606495-6495-01]

RIN 0625-XC019

2016 Fee Schedule for National Travel and Tourism Office for the Advance Passenger Information System/I-92 Program, I-94 International Arrivals Program, and Survey of International Air Travelers Program

AGENCY: International Trade Administration, U.S. Department of Commerce.

ACTION: Notice of revised fee schedule.

SUMMARY: Consistent with the guidelines in OMB Circular A-25,¹ federal agencies are responsible for conducting a biennial review of all programs to determine the types of activities subject to user fees and the basis upon which user fees are to be set. The U.S. Department of Commerce, National Travel and Tourism Office (NTTO) is raising the fees for 2016 data for the monthly, quarterly and annual data from the Advance Passenger Information System (APIS)/I-92 Program, the I-94 International Arrivals Program, and the annual custom reports, data tables or files from the Survey of International Air Travelers Program. The NTTO has been providing this data for a fee for many years and has developed a subscriber base for each of these programs. The 2016 fee schedules for each program are available on the NTTO Web site. The fees collected for these reports go to pay ITA costs to develop the reports as well as to support research for the continuation and expansion of improvements to the data provided by the NTTO. The revised fee schedule is effective immediately upon publication of this Notice.

¹ https://www.whitehouse.gov/omb/circulars_a025.

DATES: This fee schedule is effective June 20, 2016.

FOR FURTHER INFORMATION CONTACT: Richard Champley at: (202) 482-4753, or richard.champley@trade.gov; or Claudia Wolfe at: (202) 482-4555, or claudia.wolfe@trade.gov.

SUPPLEMENTARY INFORMATION:

Background: Consistent with the guidelines in OMB Circular A-25, federal agencies are responsible for conducting a biennial review of all programs to determine the types of activities subject to user fees and the basis upon which user fees are to be set. The U.S. Department of Commerce, International Trade Administration (ITA), recently completed a biennial review and will be notifying the public, on a rolling basis, on the various ITA user fee adjustments.

In addition to OMB Circular A-25, the NTTO follows OMB Circular A-130, which mandates that federal agencies develop and maintain a comprehensive set of information management policies for use across the government, and to promote the application of information technology to improve the use and dissemination of information in the operation of Federal programs. The role of NTTO is to enhance the international competitiveness of the U.S. travel and tourism industry and increase its exports, thereby creating U.S. employment and economic growth. The primary functions of the NTTO are: (1) Management of the travel and tourism statistical system for assessing the economic contribution of the industry and providing the sole source for characteristic statistics on international travel to and from the United States; (2) design and administration of export expansion activities; (3) development and management of tourism policy, strategy and advocacy; and, (4) technical assistance for expanding this key export (international tourism) and assisting in domestic economic development. There are three main research programs in which the public may obtain additional data on the international travelers to and from the United States in addition to free information posted to the NTTO Web site. The revised 2016 fees are for the monthly, quarterly or annual data from the APIS/I-92 Program, the I-94 International Arrivals Program, and the annual custom reports, data tables or files from the Survey of International Air Travelers Program.

The APIS/I-92 program is a joint effort between the Department of Homeland Security Customs and Border Protection (CBP) and the NTTO to provide international air traffic statistics data to the government and the travel industry. The system is a source of data on all international flights to and from the United States, including flights with fewer than 10 passengers. It reports the total volume of air traffic and various subsets of traffic. A differentiating feature of the I-92 is that the I-92 reports the number of U.S. citizens vs. “all other citizens.” The information collected from this program has been based upon the Advance Passenger Information System (APIS) since July 2010. All carriers serving the United States must transmit APIS data (from their automated flight manifests) to CBP for each flight coming to or departing from the United States. Canada also is included in this program. The information collected provides non-stop point-to-point air traffic totals between the United States and all other countries and between U.S. and foreign airports. This information is further subset by the number of passengers on U.S. flag or foreign flag carriers. In addition, there is a breakout of scheduled or charter flight passengers. In the monthly, quarterly and annual I-92 reports, there are four sets of tables. The first three sets have an arrivals portion (Ia, IIa, and IIIa), as well as a departures section (Id, IId, and IIId). The fourth table is a summary of traffic by flag of carrier. To learn more about this program, go to: http://travel.trade.gov/research/programs/i92/index.asp. The current 2016 and historical fees (1990-2015) for this program can be found at: http://travel.trade.gov/research/reports/i92/index.asp. Fees for APIS/I-92 products include a 5 percent fee increase between 2015 and 2016.

The I-94 International Arrivals Program is a core part of the U.S. travel and tourism statistical system. This program provides the U.S. government and the public with the official U.S. monthly and annual overseas visitor arrivals to the United States along with select Mexican and Canadian visitor statistics. The NTTO manages the program in cooperation with the CBP. The program collects and reports overseas non-U.S. resident visitor arrivals to the United States. U.S. government data consists of the DHS I-94 data, which non-U.S. citizens from overseas and Mexico must complete to enter the United States. All visitation data is processed by residency (world region and country), for total arrivals, type of visa, mode of transportation, age of traveler, address (state level only) while in the United States port of entry, and select percentage change comparisons year-over-year. The information is presented in a report entitled the Summary of International Travel to the United States with 35 tables including the categories above. NTTO publishes arrivals data to its Web site on a monthly basis, and reports and custom reports or tables are available on a monthly, quarterly or annual basis. More information about this program is available at http://travel.trade.gov/research/programs/i94/index.asp. The current 2016 and historical fees (1992-2015) for this program can be found at: http://travel.trade.gov/research/reports/i94/index.html. Fees for I-94 products include a 5 percent fee increase between 2015 and 2016.

The Survey of International Air Travelers Program is a primary research program which gathers statistical data about air passenger travelers in U.S.—overseas and Mexican air markets (Canada is excluded). The program also serves as the cornerstone for NTTO's efforts to assist U.S. businesses to improve their competitiveness and effectiveness in the international travel market. The Survey is conducted on selected flights which have departed, or are about to depart, from the major U.S. international gateway airports. The Survey is administered either aboard flights or in the airport gate area, of the over 90 participating airlines (foreign and U.S.) departing 26 U.S. international gateways. The Survey data is “weighted” to census data. For example, non-resident inbound survey responses are weighted to the “100%” population of DHS I-94 arrival records to adjust for over and under sampling. Resident outbound data is weighted based on DHS I-92 U.S. departure data. Data are available on a quarterly and annual basis for either non-resident inbound or resident outbound. It can be delivered in a standard national report format or as a custom report, data table, or excel. Data files are also available. To learn more about this program, go to: http://travel.trade.gov/research/programs/ifs/index.asp. The current 2016 and historical fees (1983-2015) for this program can be found at: http://travel.trade.gov/research/reports/ifs/index.asp. When viewing the current fee structure for the SIAT reports, the tables will show there is no fee increase for the vast majority of the standard published reports and their corresponding Excel tables as there has not been for the last five years. The only reports or data for which the NTTO is revising the fees are shown below; the past fees are accessible through the above links.

Fee Schedule increases for the APIS/I-92 program, the I-94 International Arrivals Program and the Survey of International Air Travelers (SIAT) Program are shown in the tables below. All fees shown are 5 percent greater in 2016 than in 2015. For the I-94 program, the NTTO is eliminating the print files and will only provide a PDF and Excel file to save costs and provide an Excel version of the reports. For the SIAT, a majority of the reports offered will see no fee increase between 2015 and 2016. The custom reports, data tables and files see a 5 percent fee increase in 2016.

| 2016 Fee
APIS/I-92 Program:
Monthly Reports printed | $1,995
Monthly Reports (PDF and Excel) | 2,985
Quarterly Reports printed | 1,800
Quarterly Reports (PDF and Excel) | 2,690
Annual Report printed | 1,400
Annual Report (PDF and Excel) | 2,090
Data Files, for internal use only | 23,745
I-94 International Arrivals Program:
Monthly Subscription (PDF and Excel) | 2,130
Quarterly Subscription (PDF and Excel) | 1,870
Annual Issue (PDF and Excel) | 1,290
Annual, data file (CD-ROM) | 14,580
Quarterly, data file (CD-ROM) | 16,365
Combined 2015 and 2016 International I-94 Arrivals Data:
Monthly Subscription (PDF and Excel) | 3,240
Quarterly Subscription (PDF and Excel) | 2,755
Annual Issue (PDF and Excel) | 1,740
Survey of International Air Travelers Program:
CUSTOM TABLE—1st table, in Excel | 2,365
CUSTOM TABLE—all other tables in Excel | 1,430
Custom Reports with Excel and pdf (First banner) | 8,875
Custom Reports with Excel and pdf (Second banner) | 7,985
Custom Reports with Excel and pdf (Third + banners) | 7,145

Method for Determining Fees

ITA collects, retains, and expends user fees pursuant to delegated authority under the Mutual Educational and Cultural Exchange Act as authorized in its annual appropriations acts. For each program, NTTO has a set of subscribers who have been using this data, some for decades. Most rely upon this data as the only federal source to define the international travel market to this country and to their destination or for their sector.

Fees are set taking into account the cost of providing this data. Most of the NTTO research is implemented using fixed price contracts. Within the contracts are built-in cost adjustments. The NTTO considers program cost changes due to the needed level of timeliness and other quality of service considerations as well as needed or actual improvements such as new report formats, more travelers surveyed, or other enhancements to the research data provided. The NTTO also generally considers the current demand for each program by comparing changes from one year to the next before setting fees.

In adjusting its current fees, NTTO also considered the purchasing constraints experienced by current or potential subscribers (such as limits to purchase by credit card, or sole source/open bid requirements) and factored in the annual percentage change in the Consumer Price Index (used to determine rate of inflation).

In the analysis of these fees, it was determined that the services provided offer special benefits to an identifiable recipient beyond those that accrue to the general public. The NTTO calculated the actual cost of providing its data services in order to provide a basis for setting each fee. Actual cost incorporates direct and indirect costs (including operations and maintenance), overhead, and charges for the use of capital facilities. NTTO also took into account additional factors when pricing goods and services, including adequacy of cost recovery, affordability, available efficiencies, inflation, pricing history, fee elasticity considerations (including client ability to pay for NTTO data), and service delivery alternatives.

Conclusion

Based on the information provided above, the NTTO believes its revised fees are consistent with the objective of OMB Circular A-25 to “promote efficient allocation of the nation's resources by establishing charges for special benefits provided to the recipient that are at least as great as the cost to the U.S. Government of providing the special benefits . . .” OMB Circular A-25(5)(b).

Dated: June 15, 2016.
Julie P. Heizer,
Deputy Director, National Travel & Tourism Office, U.S. Department of Commerce.

[FR Doc. 2016-14527 Filed 6-17-16; 8:45 am]

BILLING CODE 3510-DR-P